DEPARTMENT OF COMMERCE

National Oceanic and Atmospheric Administration

RIN 0648-XC893

Takes of Marine Mammals Incidental to Specified Activities; Taking Marine Mammals Incidental to Rocky Intertidal Monitoring Surveys Along the Oregon and California Coasts: Correction

AGENCY: National Marine Fisheries Service (NMFS), National Oceanic and Atmospheric Administration (NOAA), Commerce.

ACTION: Notice; correction.

SUMMARY: NMFS incorrectly published a second notice in the Federal Register on December 23, 2013, requesting comments on the proposed issuance of an Incidental Harassment Authorization (IHA) pursuant to the Marine Mammal Protection Act (MMPA). NMFS had published the first notice in the Federal Register on October 30, 2013, requesting comments from the public for 30 days. The comment period closed on November 29, 2013. The notice that should have published in the Federal Register on December 23, 2013, was the notice of issuance of an IHA.

FOR FURTHER INFORMATION CONTACT: Candace Nachman, Office of Protected Resources, NMFS, (301) 427-8401.

SUPPLEMENTARY INFORMATION:

Need for Correction

The public comment period for the proposal to issue an IHA to the Partnership for Interdisciplinary Study of Coastal Oceans (PISCO) at the University of California Santa Cruz published in the Federal Register on October 30, 2013 (78 FR 64918), requesting comments from the public for 30 days on that proposal. NMFS issued an IHA to PISCO for the proposed action on December 17, 2013, which took into consideration the public comments received at that time. The Federal Register notice that NMFS incorrectly published on December 23, 2013 (78 FR 77433), is a duplicate of the original notice from October 2013. The notice that should have published in the Federal Register on December 23, 2013, was the notice of issuance of an IHA. NMFS has submitted the notice of issuance to the Federal Register for publication. Therefore, NMFS is withdrawing the Notice of Proposed IHA notice of December 23, 2013 (78 FR 77433), as the public was already afforded an opportunity to comment on the proposal, and the final action has already been taken.

Dated: December 23, 2013.
Perry Gayaldo,
Acting Deputy Director, Office of Protected Resources, National Marine Fisheries Service.

[FR Doc. 2013-31201 Filed 12-27-13; 8:45 am]

BILLING CODE 3510-22-P